Title 3—

The President

Proclamation 7442 of May 18, 2001

National Maritime Day, 2001

By the President of the United States of America

A Proclamation

Throughout our history, America's economic prosperity has been closely tied to its maritime geography. From indigenous peoples navigating our majestic rivers to colonists settling along the New World's eastern shores, natives and immigrants alike have relied on the sea and our bountiful inland waterways for commerce and security.

In colonial days and in the 19th century, America's maritime industries facilitated the exchange of goods and the migration of pioneers. During World War II, some 6,000 American seafarers and more than 700 U.S. merchant ships fell to enemy action, many in the infamous Run to Murmansk. No branch of our Armed Forces, save the Marine Corps, suffered a higher casualty rate. Today, our Merchant Marine continues this proud tradition.

As recently as the Persian Gulf War and during humanitarian and military operations since, a unique partnership of Government, industry, and labor has continued its vital maritime service to our Nation. Many civilian merchant mariners crew the Maritime Administration's Ready Reserve Force, which is observing its 25th anniversary.

Today, the U.S. maritime fleet has decreased in the number of vessels in the international trades, but it transports goods more efficiently and economically than ever before. These U.S. ships deliver a billion tons of imports and exports each year in our foreign trade and another billion tons of waterborne domestic trade. Many merchant seafarers are trained at outstanding institutions such as the U.S. Merchant Marine Academy at Kings Point, New York, the six State maritime academies, and several union and industry training facilities.

To help ensure continued competitiveness, we must tailor our maritime policy to the challenges of the 21st century. America's Marine Transportation System will help determine our long-term economic health and improve our ability to respond quickly and effectively in crisis. Within the next 2 decades, cargo will double. Accordingly, my Administration is working with Government agencies, the maritime industry, shippers, labor unions, and environmental groups to ensure that our waterways continue to serve as a sound transportation option in the face of ever-growing congestion on highways and rail lines.

In recognition of the importance of the U.S. Merchant Marine, the Congress, by joint resolution approved on May 20, 1933, has designated May 22 of each year as “National Maritime Day” and has authorized and requested that the President issue an annual proclamation calling for its appropriate observance.

NOW, THEREFORE, I, GEORGE W. BUSH, President of the United States of America, by virtue of the authority vested in me by the Constitution and laws of the United States, do hereby proclaim May 22, 2001, as National Maritime Day. I call upon the people of the United States to celebrate this observance and to display the flag of the United States at their homes and in their communities. I also request that all ships sailing under the American flag dress ship on that day.

IN WITNESS WHEREOF, I have hereunto set my hand this eighteenth day of May, in the year of our Lord two thousand one, and of the Independence of the United States of America the two hundred and twenty-fifth.

B

[FR Doc. 01-13296

Filed 05-23-01; 8:45 am]

Billing code 3195-01-P